DEPARTMENT OF TRANSPORTATION

Federal Aviation Administration

14 CFR Part 39

[Docket No. FAA-2007-28599; Directorate Identifier 2007-NM-008-AD; Amendment 39-15213; AD 2007-20-03]

RIN 2120-AA64

Airworthiness Directives; Airbus Model A300-600 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

The aim of this AD, is to mandate airworthiness requirements in structural maintenance in accordance with the requirements defined in the AIRBUS A300-600 Airworthiness Limitations Items (ALI) document issue 11, referenced AI/SE-M2/95A.0502/06, approved by EASA on 31 May 2006.

The unsafe condition is fatigue cracking, damage, or corrosion in principal structural elements, which could result in reduced structural integrity of the airplane. We are issuing this AD to require actions to correct the unsafe condition on these products.

DATES: This AD becomes effective October 31, 2007.

The Director of the Federal Register approved the incorporation by reference of a certain publication listed in this AD as of October 31, 2007.

ADDRESSES: You may examine the AD docket on the Internet at http://dms.dot.gov or in person at the U.S. Department of Transportation, Docket Operations, M-30, West Building Ground Floor, Room W12-140, 1200 New Jersey Avenue, SE., Washington, DC.

FOR FURTHER INFORMATION CONTACT: Tom Stafford, Aerospace Engineer, International Branch, ANM-116, FAA, Transport Airplane Directorate, 1601 Lind Avenue SW., Renton, Washington 98057-3356; telephone (425) 227-1622; fax (425) 227-1149.

SUPPLEMENTARY INFORMATION:

Discussion

We issued a notice of proposed rulemaking (NPRM) to amend 14 CFR part 39 to include an AD that would apply to the specified products. That NPRM was published in the Federal Register on July 9, 2007 (72 FR 37122). That NPRM proposed to correct an unsafe condition for the specified products. The MCAI states:

The aim of this AD, is to mandate airworthiness requirements in structural maintenance in accordance with the requirements defined in the AIRBUS A300-600 Airworthiness Limitations Items (ALI) document issue 11, referenced AI/SE-M2/95A.0502/06, approved by EASA on 31 May 2006.

Issue 11 of this document (refer to the Summary of Changes chapter for more details) deals in particular with the introduction of new tasks and the reduction of threshold and interval of some ALI tasks.

Some other clarifications are also brought to some tasks like for example the access, the applicability period or the applicability.

This AD supersedes DGAC AD F-2004-153, as it was mandating A300-600 ALI issue 9.

The unsafe condition is fatigue cracking, damage, or corrosion in principal structural elements, which could result in reduced structural integrity of the airplane. Incorporating this revision into the Airworthiness Limitations Section (ALS) of the Instructions for Continued Airworthiness is intended to ensure the continued structural integrity of these airplanes. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

Based on the service information, we estimate that this AD affects about 138 products of U.S. registry. We also estimate that it takes about 1 work-hour per product to comply with this AD. The average labor rate is $80 per work-hour. Based on these figures, we estimate the cost of this AD on U.S. operators to be $11,040, or $80 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://dms.dot.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-20-03 Airbus: Amendment 39-15213. Docket No. FAA-2007-28599; Directorate Identifier 2007-NM-008-AD.

Effective Date

(a) This airworthiness directive (AD) becomes effective October 31, 2007.

Affected ADs

(b) None.

Applicability

(c) This AD applies to Airbus Model A300-600 series airplanes, all certified models, all serial numbers, certificated in any category.

Subject

(d) Time Limits/Maintenance Checks.

Reason

(e) The mandatory continued airworthiness information (MCAI) states:

The aim of this AD, is to mandate airworthiness requirements in structural maintenance in accordance with the requirements defined in the AIRBUS A300-600 Airworthiness Limitations Items (ALI) document issue 11, referenced AI/SE-M2/95A.0502/06, approved by EASA on 31 May 2006.

Issue 11 of this document (refer to the Summary of Changes chapter for more details) deals in particular with the introduction of new tasks and the reduction of threshold and interval of some ALI tasks.

Some other clarifications are also brought to some tasks like for example the access, the applicability period or the applicability. This AD supersedes DGAC AD F-2004-153, as it was mandating A300-600 ALI issue 9.

The unsafe condition is fatigue cracking, damage, or corrosion in principal structural elements, which could result in reduced structural integrity of the airplane. Incorporating this revision into the Airworthiness Limitations Section (ALS) of the Instructions for Continued Airworthiness is intended to ensure the continued structural integrity of these airplanes.

Actions and Compliance

(f) Unless already done, within 3 months after the effective date of this AD, revise the ALS of the Instructions for Continued Airworthiness to incorporate Airbus A300-600 Airworthiness Limitation Items (ALI) Document AI/SE-M2/95A.0502/06, Issue 11, dated April 2006. The tolerance (grace period) for compliance (specified in paragraph 2 of Section B—Program Rules) with Issue 11 of the ALI is within 2,000 flight cycles after the effective date of this AD, provided that none of the following is exceeded:

(1) Thresholds or intervals in the operator's current approved maintenance schedule that are taken from a previous ALI issue, if existing, and are higher than or equal to those given in Issue 11 of the ALI.

(2) 8 months after the effective date of this AD.

(3) 50 percent of the intervals given in Issue 11 of the ALI.

(4) Any application tolerance given in the task description of Issue 11 of the ALI.

FAA AD Differences

Note: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Stafford, Aerospace Engineer, International Branch, ANM-116, Transport Airplane Directorate, FAA, 1601 Lind Avenue, SW., Renton, Washington 98056-3356; telephone (425) 227-1622; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2006-0374, dated December 15, 2006, and Airbus A300-600 Airworthiness Limitation Items Document AI/SE-M2/95A.0502/06, Issue 11, dated April 2006, for related information.

Material Incorporated by Reference

(i) You must use Airbus A300-600 Airworthiness Limitation Items Document AI/SE-M2/95A.0502/06, Issue 11, dated April 2006, to do the actions required by this AD, unless the AD specifies otherwise. (Page 143-G of this document is missing the document number, document issue date and revision level, section identifier, and page number.)

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Issued in Renton, Washington, on September 19, 2007.
John Piccola,
Acting Manager, Transport Airplane Directorate, Aircraft Certification Service.

[FR Doc. E7-18870 Filed 9-25-07; 8:45 am]

BILLING CODE 4910-13-P